ENVIRONMENTAL PROTECTION AGENCY

[OA-2005-0001, FRL-7926-8]

Agency Information Collection Activities: Proposed Collection; Comment Request; Economic Valuation of Avoiding Exposure to Arsenic in Drinking Water, EPA ICR Number 2191.01

AGENCY: Environmental Protection Agency (EPA).

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before September 6, 2005.

ADDRESSES: Submit your comments, referencing docket ID number OA-2005-0001, to EPA online using EDOCKET (our preferred method), by e-mail to oei.docket@epa.gov, or by mail to: EPA Docket Center, Environmental Protection Agency, Office of Environmental Information Docket, Mail Code 2822T, 1200 Pennsylvania Ave., NW., Washington, DC 20460.

FOR FURTHER INFORMATION CONTACT: Dr. Kelly Maguire, Office of Policy, Economics and Innovation, National Center for Environmental Economics, Mail Code 1809T, Environmental Protection Agency, 1200 Pennsylvania Ave., NW., Washington, DC 20460; telephone number: (202) 566-2273; fax number: (202) 566-2339; e-mail address: maguire.kelly@epa.gov.

SUPPLEMENTARY INFORMATION: EPA has established a public docket for this ICR under Docket ID number OA-2005-0001, which is available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information Docket is (202) 566-1752. An electronic version of the public docket is available through EPA Dockets (EDOCKET) at http://www.epa.gov/edocket. Use EDOCKET to obtain a copy of the draft collection of information, submit or view public comments, access the index listing of the contents of the public docket, and to access those documents in the public docket that are available electronically. Once in the system, select Asearch,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are households in the State of Maine.

Title: Economic Valuation of Avoiding Exposure to Arsenic in Drinking Water.

Abstract: The purpose of this information collection request is to conduct 4 focus groups of no more than nine individuals and to conduct a survey of 2,000 households in the State of Maine regarding their willingness to pay to avoid exposure to arsenic in drinking water. Groundwater is an important source of drinking water in the United States. In Maine about half of the population depends on private wells for drinking water and about three-quarters of these wells are drilled into bedrock where arsenic may occur naturally. Recent testing of well water indicates that about 10 percent of the private wells in Maine have arsenic concentrations above the Federal drinking water standard of 0.10 mg/l.

Although people on public water supplies are protected from elevated levels of arsenic in their tap water, households with private wells are not afforded such protection. Chronic exposure to low concentrations of arsenic through drinking water causes cancer, and arsenic is the only carcinogen with a demonstrated causal link between drinking-water exposure and bladder cancer. Households with elevated levels of arsenic in their well water can undertake a variety of actions to avoid exposure. They can purchase bottled water to drink or install point-of-use (e.g., kitchen sink) or point-of-entry (e.g., complete household) systems. This study will scrutinize the behavioral response of households to information regarding levels of arsenic in drinking water from private wells.

To fully assess behavioral responses to exposure to arsenic in drinking water, this study will combine the results of three analyses: a hedonic property-value study, an averting behavior study, and a conjoint analysis. One survey instrument, with two versions, will be used to collect data for the averting behavior and conjoint studies. This instrument is the subject of this information collection request. The survey will focus on public support for government programs aimed at reducing arsenic levels in drinking water and household decisions to avoid risks associated with arsenic in drinking water. The results of this research will facilitate the estimate of value of statistical life and value of statistical cancer estimates which will assist in assessing the value households place on programs aimed at reducing such exposure. Responses to both the focus groups and full survey are voluntary and will be kept confidential. This project is being conducted in conjunction with the University of Maine via a cooperative agreement.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The public reporting burden for this information collection request is estimated to average 2 hours per response for the focus groups and 24 minutes per response for the full survey.

Estimated Number of Focus Group Respondents: 36.

Estimated Reporting Burden for Focus Group Respondents: 2 hours.

Estimated Number of Responses per Respondent: 1.

Estimated Total Annual Burden on Focus Group Respondents: 72 hours.

Estimated Number of Survey Respondents: 2000.

Estimated Reporting Burden for Survey Respondents: 0.4 hours.

Estimated Number of Responses per Respondent: 1.

Estimated Total Annual Burden on Survey Respondents: 800 hours.

Estimated Total Reporting Burden: 872 hours.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 30, 2005.
Al McGartland,
Director, National Center for Environmental Economics, Office of Policy, Economics and Innovation.

[FR Doc. 05-13488 Filed 7-7-05; 8:45 am]

BILLING CODE 6560-50-P